DEPARTMENT OF THE INTERIOR

National Park Service

[NPS-WASO-NAGPRA-12546; PPWOCRADN0-PCU00RP14.R50000]

Notice of Intent To Repatriate Cultural Items: The Field Museum of Natural History, Chicago, IL

AGENCY: National Park Service, Interior.

ACTION: Notice.

SUMMARY: The Field Museum of Natural History, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to The Field Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to The Field Museum of Natural History at the address in this notice by May 10, 2013.

ADDRESSES: Helen Robbins, Repatriation Director, The Field Museum, 1400 South Lake Shore Drive, Chicago, IL 60605, telephone (312) 665-7317.

SUPPLEMENTARY INFORMATION: Notice is here given in accordance with the Native American Graves Protection and Repatriation Act (NAGPRA), 25 U.S.C. 3005, of the intent to repatriate cultural items under the control of The Field Museum of Natural History, Chicago, IL, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The 90 cultural items consist of Western Apache ceremonial items collected at the San Carlos Apache Reservation and White Mountain Apache Reservation in the late 1800s and early 1900s. The items to be repatriated come from four separate Field Museum accessions.

Of the 90 requested cultural items, 21 items come from Field Museum accession 769. Charles Owen, acting on behalf of The Field Museum of Natural History, purchased these 21 items from various individuals on the White Mountain Apache Reservation, Arizona, in the spring of 1901, during a Field Columbian Museum expedition to the Southwest. The requested items include 8 medicine hats, 5 buckskin medicine shirts, 3 cradle charms/ornaments, 1 necklace, 1 wristlet of medicine beads, 2 medicine shields, and 1 medicine cord with a wooden figure.

Of the 90 requested cultural items, 67 items come from Field Museum accession 847. Charles Owen purchased these 67 items from various individuals on the White Mountain Apache and San Carlos Reservations during a 1903 Field Columbian Museum expedition to the Southwest. The requested items include 11 medicine strings, 18 painted medicine shirts and buckskins, 12 medicine hats, 7 necklaces, 4 wooden figures, 3 amulets, 2 medicine rings, 2 buckskin bags with wooden figures, 2 wristlets, 1 necklace and bag, 1 group of 12 eagle breath feathers, 1 hunting charm, 1 medicine shield, 1 medicine stick, and 1 wooden medicine cross.

Of the 90 requested cultural items, one item comes from Field Museum accession 895. This item was purchased by the Field Columbian Museum in 1904, in Chicago, from an individual identified as Apache. This item is a wooden figure, and is identified in collection records as an “Apache's Medicine-man's effigy.” Charles Owen had previously seen the figure on the Apache Reservation during one of his expeditions in 1901 or 1903, but had been unable to purchase it for lack of funds.

Of the 90 requested cultural items, one item comes from Field Museum accession 1926. The Field Museum of Natural History accessioned this item in 1931, receiving it as a gift from Mrs. A. Shreve Badger of Chicago. This item is identified in collection records as a “medicine man's hat.” According to donor information, the hat was originally collected on the Fort Apache Reservation in 1884 or 1885.

The 90 cultural items have been identified as Native American sacred objects and objects of cultural patrimony through museum records, scholarly publications, primary documents, consultation information, and testimony provided by representatives of the Western Apache NAGPRA Working group, a consortium of the San Carlos Apache Tribe of the San Carlos Reservation, Arizona; Tonto Apache Tribe of Arizona; White Mountain Apache Tribe of the Fort Apache Reservation, Arizona; and the Yavapai-Apache Nation of the Camp Verde Indian Reservation, Arizona.

Determinations Made by The Field Museum of Natural History

Officials of The Field Museum have determined that:

• Pursuant to 25 U.S.C. 3001(3)(C), the 90 cultural items described above are specific ceremonial objects needed by traditional Native American religious leaders for the practice of traditional Native American religions by their present-day adherents.

• Pursuant to 25 U.S.C. 3001(3)(D), the 90 cultural items described above have ongoing historical, traditional, or cultural importance central to the Native American group or culture itself, rather than property owned by an individual.

• Pursuant to 25 U.S.C. 3001(2), there is a relationship of shared group identity that can be reasonably traced between the 90 cultural items and the San Carlos Apache Tribe of the San Carlos Reservation, Arizona; Tonto Apache Tribe of Arizona; White Mountain Apache Tribe of the Fort Apache Reservation, Arizona; and the Yavapai-Apache Nation of the Camp Verde Indian Reservation, Arizona.

Additional Requestors and Disposition

Lineal descendants or representatives of any Indian tribe or Native Hawaiian organization not identified in this notice that wish to claim these cultural items should submit a written request with information in support of the claim to Helen Robbins, Repatriation Director, The Field Museum, 1400 South Lake Shore Drive, Chicago, IL 60605, telephone (312) 665-7317, by May 10, 2013. After that date, if no additional claimants have come forward, transfer of control of the sacred objects and objects of cultural patrimony through the Western Apache NAGPRA Working Group, to the San Carlos Apache Tribe of the San Carlos Reservation, Arizona; Tonto Apache Tribe of Arizona; White Mountain Apache Tribe of the Fort Apache Reservation, Arizona; and Yavapai-Apache Nation of the Camp Verde Indian Reservation, Arizona, may proceed.

The Field Museum of Natural History is responsible for notifying the Apache Tribe of Oklahoma; Fort McDowell Yavapai Nation, Arizona; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and the Yavapai-Apache Nation of the Camp Verde Indian Reservation, Arizona, that this notice has been published.

Dated: March 11, 2013.
Sherry Hutt,
Manager, National NAGPRA Program.

[FR Doc. 2013-08367 Filed 4-9-13; 8:45 am]

BILLING CODE 4312-50-P